SMALL BUSINESS ADMINISTRATION

[License No. 06/06-0335]

Escalate Capital Partners SBIC I, L.P.; Notice Seeking Exemption Under Section 312 of the Small Business Investment Act, Conflicts of Interest

Notice is hereby given that Escalate Capital Partners, SBIC I, L.P., 300 W. 6th Street, Suite 2250, Austin, TX 78701, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Escalate Capital Partners, SBIC I, L.P. proposes to provide debt security financing to LDR Holding Corporation, 4030 West Braker Lane, Suite 360, Austin, TX 78759. The financing is contemplated to provide capital for operations and expansion.

The financing is brought within the purview of § 107.730(a)(1) of the Regulations because AV-EC Partners I, L.P., an Associate of Escalate Capital Partners, SBIC I, L.P., owns more than ten percent of LDR Holding Corporation. Therefore, this transaction is considered a financing of an Associate requiring an exemption.

Notice is hereby given that any interested person may submit written comments on the transaction within fifteen days of the date of this publication to the Associate Administrator for Investment, U.S. Small Business Administration, 409 Third Street, SW., Washington, DC 20416.

Dated: December 29, 2010.
Sean Greene,
Associate Administrator for Investment.

[FR Doc. 2010-33276 Filed 1-4-11; 8:45 am]

BILLING CODE 8025-01-P